DEPARTMENT OF HEALTH AND HUMAN SERVICES

Centers for Medicare & Medicaid Services

[CMS-2214-N]

Medicaid Program; Establishment of the Medicaid Commission and Request for Nominations for Members

AGENCY: Centers for Medicare & Medicaid Services (CMS), HHS.

ACTION: Notice.

SUMMARY: This notice announces the establishment of the Medicaid Commission and discusses the group's purpose and charter. It also solicits nominations for members.

DATES: Nominations for membership will be considered if they are received by June 3, 2005.

ADDRESSES: Send nominations to: Centers for Medicare and Medicaid Services, 7500 Security Boulevard, Baltimore Maryland 21244-1850, Policy Coordination and Planning Group, Mail stop S2-26-12, Attention: Mary Beth Hance

FOR FURTHER INFORMATION CONTACT: Mary Beth Hance, (410) 786-4299. Press inquiries are handled through the CMS Press Office at (202) 690-6145.

SUPPLEMENTARY INFORMATION:

I. Background

The Secretary of the Department of Health and Human Services is establishing a Medicaid Commission under Pub. L. 92-463, Federal Advisory Committee Act, to advise the Secretary on ways to modernize the Medicaid program so that it can provide high-quality health care to its beneficiaries in a financially sustainable way.

II. Charter, General Responsibilities, and Composition of the Medicaid Commission

A. Charter Information and General Responsibilities

On May 19, 2005, the Secretary signed the charter establishing the Medicaid Commission. The Commission will terminate 30 days after the date of submission of the final report to the Secretary, but no later than January 31, 2007. The Commission, as chartered under the legal authority of 42 U.S.C 217a, section 222 of the Public Health Service Act, is also governed by the provisions of the Pub. L. 92-463, as amended (5 U.S.C. appendix 2), which sets forth standards for the formation and use of advisory committees, and the provisions of the Government in the Sunshine Act, 5 U.S.C. 552b(b).

You may view obtain a copy of the Secretary's charter for the Medicaid Commission at http://www.cms.hhs.gov/faca/stcomm.asp.

The Commission shall submit two reports to the Secretary for his consideration and submission to Congress. By September 1, 2005, the Commission will provide recommendations on options to achieve $10 billion in scorable Medicaid savings over five years while at the same time make progress toward meaningful longer-term program changes to better serve beneficiaries. The Commission will also consider, to the extent feasible, specific performance goals for the Medicaid program, as a basis for its longer-term recommendations. By December 31, 2006, the Commission is tasked with making longer-term recommendations on the future of the Medicaid program that ensures the long-term sustainability of the program.

Meetings shall be open to the public except when closure is specifically allowed by statute, and after all statutory and regulatory requirements for doing so have been met. The Secretary or other official to whom the authority has been delegated shall make such determinations. Notice of all meetings shall be given to the public.

The Commission shall develop proposals that address the following long-term issues:

• Eligibility, benefits design, and delivery;

• Expanding the number of people covered with quality care while recognizing budget constraints;

• Long term care;

• Quality of care, choice, and beneficiary satisfaction;

• Program administration; and

• Other topics that the Secretary may submit to the Commission.

The Secretary will request the representatives of the three public policy organizations (as referenced below) to consider these issues and provide relevant information to the Commission within specified timeframes. The Commission shall consider how to address these issues under a budget scenario that assumes Federal and State spending under the current baseline; a scenario that assumes Congress will choose to lower the rate of growth in the program; and a scenario that may increase spending for coverage. The Commission shall assume that the basic matching relationship between the Federal Government and States will be continued.

B. Composition of the Medicaid Commission

The Commission shall consist of three types of member groups, of which only one will have authority to vote on the recommendations to be provided to the Secretary. The first group will consist of up to 15 voting members.

Voting Members:

• Former or current Governors.

• Three representatives of public policy organizations involved in major health care policy issues for families, individuals with disabilities, low-income individuals, or the elderly.

• Former or current State Medicaid Directors.

• Individuals with expertise in health, finance, or administration.

• Federal officials who administer programs that serve the Medicaid population.

• The Secretary (or the Secretary's designee) and such other members as the Secretary may specify.

• Ex Officio Members.

Non-Voting Advisor Members:

A group of up to 15 non-voting advisors will support the Commission's deliberations with their special expertise. These will include State and local government officials, consumer and provider representatives who have an inherent interest in the Medicaid program.

Non-voting Congressional Advisor Members:

The Congressional Members will consist of eight non-voting members who are current members of the Senate and House of Representatives. The Secretary will request the following legislative leaders to make one Congressional selection each:

• Senate Majority Leader.

• Senate Minority Leader.

• Chairman, Senate Finance Committee.

• Ranking Member, Senate Finance Committee.

• Speaker, House of Representatives.

• Minority Leader, House of Representatives.

• Chairman, House Committee on Energy and Commerce.

• Ranking Member, House Committee on Energy and Commerce.

III. Submission of Nominations

We are requesting nominations for membership as voting members or as non-voting members on the Medicaid Commission. We will consider qualified individuals who are self-nominated or are nominated by organizations representing States, beneficiaries, and providers when we select these representatives. The Secretary will appoint members to serve on the Commission from among those candidates that we determine have the technical expertise to meet specific agency needs in a manner to ensure an appropriate balance of membership.

Any interested person may nominate one or more qualified individuals for each of the categories listed in section II.B of this notice. Each nomination must include the following information:

1. A letter of nomination that contains contact information for both the nominator and nominee (if not the same).

2. A statement from the nominee that he or she is willing to serve on the Commission for its duration (that is, through January 31, 2007) and an explanation of the nominee's interest in serving on the Commission. (For self-nominations, this information may be included in the nomination letter.)

3. A curriculum vitae that indicates the nominee's educational and Medicaid experiences.

4. Two letters of reference that support the nominee's qualifications for participation on the Commission. (For nominations other than self-nominations, a nomination letter that includes information supporting the nominee's qualifications may be counted as one of the letters of reference.)

To ensure that a nomination is considered, we must receive all of the nomination information specified in section III of this notice by June 3, 2005. Nominations should be mailed to the address specified in the ADDRESSES section of this notice.

Authority: 42 U.S.C 217 (a), section 222 of the Public Health Service Act, as amended. The Medicaid Commission is governed by the provisions of Pub. L. 92-463 as amended (5 U.S.C. appendix 2), which sets forth standards for the formation and use of advisory committees.

Dated: May 10, 2005.
Mark McClellan,
Administrator, Centers for Medicare & Medicaid Services.

[FR Doc. 05-10409 Filed 5-20-05; 12:01 pm]

BILLING CODE 4120-01-P